DEPARTMENT OF ENERGY

Federal Energy Regulatory Commission

Combined Notice of Filings #2

Take notice that the Commission received the following electric corporate filings:

Docket Numbers: EC16-61-000.

Applicants: American Transmission Company LLC, Wisconsin Power and Light Company.

Description: Application of American Transmission Company LLC, et al. for Authority to Acquire Certain Facilities under Section 203 of the FPA.

Filed Date: 1/15/16.

Accession Number: 20160115-5395.

Comments Due: 5 p.m. ET 2/5/16.

Take notice that the Commission received the following electric rate filings:

Docket Numbers: ER15-303-002.

Applicants: PJM Interconnection, L.L.C., American Transmission Systems, Incorporated.

Description: Compliance filing: ATSI submits superseding compliance filing re revisions to Attach. H-21A & H-21B to be effective 1/1/2015.

Filed Date: 1/15/16.

Accession Number: 20160115-5266.

Comments Due: 5 p.m. ET 2/5/16.

Docket Numbers: ER16-733-000.

Applicants: LQA, LLC.

Description: Baseline eTariff Filing: Application for Market-Based Rate Authorization and Request for Waivers to be effective 1/16/2016.

Filed Date: 1/15/16.

Accession Number: 20160115-5289.

Comments Due: 5 p.m. ET 2/5/16.

Docket Numbers: ER16-734-000.

Applicants: PJM Interconnection, L.L.C.

Description: § 205(d) Rate Filing: Service Agreement Nos. 4372-4390; Queue Nos. AB1-035-AB1-052 and AB1-071 (WMPAs) to be effective 12/21/2015.

Filed Date: 1/15/16.

Accession Number: 20160115-5307.

Comments Due: 5 p.m. ET 2/5/16.

Docket Numbers: ER16-735-000.

Applicants: Midcontinent Independent System Operator, Inc.

Description: § 205(d) Rate Filing: 2016-01-15 FTR Market Data Posting Filing to be effective 3/15/2016.

Filed Date: 1/15/16.

Accession Number: 20160115-5336.

Comments Due: 5 p.m. ET 2/5/16.

Docket Numbers: ER16-736-000.

Applicants: PJM Interconnection, L.L.C.

Description: § 205(d) Rate Filing: Revisions to OATT Schedule 12 Appdx A-RTEP Approved by the PJM Board Dec 2015 to be effective 2/11/2016.

Filed Date: 1/15/16.

Accession Number: 20160115-5385.

Comments Due: 5 p.m. ET 2/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2016.
Nathaniel J. Davis, Sr.,
Deputy Secretary.

[FR Doc. 2016-01232 Filed 1-21-16; 8:45 am]

BILLING CODE 6717-01-P